DEPARTMENT OF ENERGY

Federal Energy Regulatory Commission

[Docket No. CP03-307-001]

Southern Natural Gas Company; Notice of Compliance Filing

September 5, 2003.

Take notice that on August 14, 2003, Southern Natural Gas Company, (Southern) tendered for filing as part of its FERC Gas Tariff, Original Volume No. 2, the following tariff sheets with an effective date of May 14, 2003:

First Revised Sheet No. 142.

First Revised Sheet No. 204.

First Revised Sheet No. 227.

First Revised Sheet No. 612.

First Revised Sheet No. 680.

First Revised Sheet No. 729.

First Revised Sheet No. 745.

Southern states that the tariff sheets are being filed to cancel Rate Schedules X-20, X-27, X-60, X-64, X-67, and X-68 to its FERC Gas Tariff, Original Volume No. 2.

Southern also states that these Rate Schedules contain individually certificated transportation services performed by Southern on behalf of Florida Gas Transmission Company.

Southern states that copies of the filing have been served on all affected customers.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the *eLibrary* (FERRIS) link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: September 19, 2003.

Magalie R. Salas,
Secretary.

[FR Doc. 03-23374 Filed 9-12-03; 8:45 am]

BILLING CODE 6717-01-P